DEPARTMENT OF THE INTERIOR

Fish and Wildlife Service

Notice of Receipt of Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). We, the U.S. Fish and Wildlife Service, solicit review and comment from local, State, and Federal agencies, and the public on the following permit requests.

DATES: Comments on these permit applications must be received on or before December 23, 2002 to receive our consideration.

ADDRESSES: Written data or comments should be submitted to the Chief, Endangered Species, Ecological Services, U.S. Fish and Wildlife Service, 911 NE., 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above (telephone: 503-231-2063). Please refer to the respective permit number for each application when requesting copies of documents.

SUPPLEMENTARY INFORMATION:

Permit No. TE-039305

Applicant: Michael Klein, San Diego, California.

The permittee requests an amendment to take (survey by pursuit) the Quino checkerspot butterfly (Euphydryas editha quino), and take (harass by survey) the coastal California gnatcatcher (Polioptila californica californica) in conjunction with demographic research throughout the range of each species in California for the purpose of enhancing their survival.

Permit No. TE-017352

Applicant: Commonwealth of the Northern Mariana Islands, Saipan, Mariana Islands.

The permittee requests an amendment to take (collect feathers) the Mariana moorhen (Gallinula chloropus guami) in conjunction with genetic research within the Northern Mariana Islands for the purpose of enhancing its survival.

Permit No. TE-064212

Applicant: Christine Moen, Temecula, California.

The applicant requests a permit to take (survey by pursuit) the Quino checkerspot butterfly (Euphydryas editha quino) in conjunction with demographic research in Riverside County, California for the purpose of enhancing its survival.

Permit No. TE-064215

Applicant: Jessika Mejia, Santa Monica, California.

The applicant requests a permit to take (survey by pursuit) the Quino checkerspot butterfly (Euphydryas editha quino) in conjunction with demographic research throughout the range of the species in California for the purpose of enhancing its survival.

Permit No. TE-064213

Applicant: Ryan Roberts, Irvine, California.

The applicant requests a permit to take (survey by pursuit) the Quino checkerspot butterfly (Euphydryas editha quino) in conjunction with demographic research throughout the range of the species in California for the purpose of enhancing its survival.

Dated: November 5, 2002.
Rowan Gould,
Regional Director, Region 1, Fish and Wildlife Service.

[FR Doc. 02-29733 Filed 11-21-02; 8:45 am]

BILLING CODE 4310-55-P